DEPARTMENT OF COMMERCE

International Trade Administration

[A-533-857, A-580-870, A-583-850, A-489-816, A-552-817]

Certain Oil Country Tubular Goods From India, the Republic of Korea, Taiwan, the Republic of Turkey, and the Socialist Republic of Vietnam: Antidumping Duty Orders; and Certain Oil Country Tubular Goods From the Socialist Republic of Vietnam: Amended Final Determination of Sales at Less Than Fair Value

AGENCY: Enforcement and Compliance, International Trade Administration, Department of Commerce.

SUMMARY: Based on affirmative final determinations by the Department of Commerce (the Department) and the International Trade Commission (the ITC), the Department is issuing antidumping duty (AD) orders on certain oil country tubular goods (OCTG) from India, the Republic of Korea (Korea), Taiwan, the Republic of Turkey (Turkey), and the Socialist Republic of Vietnam (Vietnam). In addition, the Department is amending its final determination of sales at less than fair value (LTFV) from Vietnam as a result of ministerial errors.

DATES: Effective Date: September 10, 2014.

FOR FURTHER INFORMATION CONTACT: Emily Halle at (202) 482-0176 (India); Victoria Cho at (202) 482-5075 or Deborah Scott at (202) 482-2657 (Korea); Thomas Schauer at (202) 482-0410 (Taiwan); Catherine Cartsos at (202) 482-1757 (Turkey); or Fred Baker at (202) 482-2924 or Davina Friedmann at (202) 482-0698 (Vietnam), AD/CVD Operations, Enforcement and Compliance, International Trade Administration, U.S. Department of Commerce, 14th Street and Constitution Avenue NW., Washington, DC 20230.

SUPPLEMENTARY INFORMATION:

Background

In accordance with sections 735(d) and 777(i)(1) of the Tariff Act of 1930, as amended (the Act) and 19 CFR 351.210(c), on July 18, 2014, the Department published affirmative final determinations of sales at LTFV in the investigations of OCTG from India, Korea, Taiwan, Turkey, and Vietnam.¹ On August 8, 2014, the Department published an amended final determination of sales at LTFV in the investigation of OCTG from Taiwan.² On September 2, 2014, the ITC notified the Department of its affirmative determinations that an industry in the United States is materially injured within the meaning of section 735(b)(1)(A)(i) of the Act by reason of LTFV imports of OCTG from India, Korea, Turkey, and Vietnam, and threatened with material injury within the meaning of section 735(b)(1)(A)(ii) of the Act by reason of LTFV imports of OCTG from Taiwan.³ In addition, the ITC found in its final determinations that critical circumstances do not exist with respect to imports of subject merchandise from Turkey and Vietnam that are subject to the Department's final affirmative critical circumstances findings.⁴

¹ See Final Determination of Sales at Less Than Fair Value and Final Negative Determination of Critical Circumstances: Certain Oil Country Tubular Goods From India, 79 FR 41981 (July 18, 2014) (India Final Determination); Certain Oil Country Tubular Goods From the Republic of Korea: Final Determination of Sales at Less Than Fair Value and Negative Final Determination of Critical Circumstances, 79 FR 41983 (July 18, 2014) (Korea Final Determination); Certain Oil Country Tubular Goods From Taiwan: Final Determination of Sales at Less Than Fair Value, 79 FR 41979 (July 18, 2014) (Taiwan Final Determination); Certain Oil Country Tubular Goods From the Republic of Turkey: Final Determination of Sales at Less Than Fair Value and Affirmative Final Determination of Critical Circumstances, in Part, 79 FR 41973 (July 18, 2014) (Turkey Final Determination); and Certain Oil Country Tubular Goods From the Socialist Republic of Vietnam: Final Determination of Sales at Less Than Fair Value and Final Affirmative Determination of Critical Circumstances, 79 FR 41972 (July 18, 2014) (Vietnam Final Determination), respectively.

² See Certain Oil Country Tubular Goods From Taiwan: Amended Final Determination of Sales at Less Than Fair Value, 79 FR 46403 (August 8, 2014) (Taiwan Amended Final Determination).

³ See Letter from the ITC to the Department, dated September 2, 2014; see also Certain Oil Country Tubular Goods from India, Korea, Philippines, Taiwan, Thailand, Turkey, Ukraine, and Vietnam (Investigation Nos. 701-TA-499-500 and 731-TA-1215-1217 and 1219-1223 (Final), USITC Publication 4489, September 2014).

⁴ See Certain Oil Country Tubular Goods From India, Korea, the Philippines, Taiwan, Thailand, Turkey, Ukraine, and Vietnam, 79 FR 53080 (September 5, 2014).

Scope of the Orders

The products covered by these orders are certain oil country tubular goods (OCTG), which are hollow steel products of circular cross-section, including oil well casing and tubing, of iron (other than cast iron) or steel (both carbon and alloy), whether seamless or welded, regardless of end finish (e.g., whether or not plain end, threaded, or threaded and coupled) whether or not conforming to American Petroleum Institute (API) or non-API specifications, whether finished (including limited service OCTG products) or unfinished (including green tubes and limited service OCTG products), whether or not thread protectors are attached. The scope of the orders also covers OCTG coupling stock.

Excluded from the scope of the orders are: Casing or tubing containing 10.5 percent or more by weight of chromium; drill pipe; unattached couplings; and unattached thread protectors.

The merchandise subject to the orders is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the orders may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

The HTSUS subheadings above are provided for convenience and customs purposes only. The written description of the scope of the orders is dispositive.

Amendment to the Final Determination of Sales at Less Than Fair Value of OCTG From Vietnam

On July 18, 2014, the Department published its affirmative final determination of sales at LTFV of OCTG from Vietnam.⁵ On July 21, 2014, U.S. Steel Corporation submitted allegations of two ministerial errors.⁶

⁵ See Vietnam Final Determination.

⁶ See Letter from U.S. Steel Corporation to the Department, “Re: Oil Country Tubular Goods from Vietnam” dated July 21, 2014.

After analyzing the allegations, the Department determined, in accordance with section 735(e) of the Act and 19 CFR 351.224(f), that it made the alleged ministerial errors. Specifically, the Department unintentionally failed to (1) apply the revised usage factors for unreported yield loss to the total price of hot-rolled coil (i.e., the price of hot-rolled coil including brokerage and handling costs and import fees), and (2) use the usage factor for emulsified oil that the respondent provided in its opening-day corrections at verification. Based on our correction of these errors, the respondent's estimated weighted-average dumping margin increased from 24.22 percent to 25.18 percent.⁷

⁷ See Memorandum from Christian Marsh to Ronald K. Lorentzen, “Less-Than-Fair-Value Investigation of Certain Oil Country Tubular Goods from the Socialist Republic of Vietnam: Allegations of Ministerial Errors,” dated August 11, 2014 (Ministerial Errors Memorandum). The Department also received a request from SeAH Steel VINA Corporation (SeAH VINA) to correct certain alleged errors. See Letter from SeAH VINA to the Department, “Re: Antidumping Investigation of Oil Country Tubular Goods from Vietnam—Request for Correction of Egregious Misstatements of Fact and Law in Final Determination,” dated July 21, 2014. We determined that the alleged errors were not ministerial in nature and have not made any changes based on this request. See Ministerial Errors Memorandum at 4-5.

In accordance with section 735(d) of the Act, we have notified the ITC of the Vietnam Final Determination and our amended final determination.

Antidumping Duty Orders

As stated above, on September 2, 2014, in accordance with section 735(d) of the Act, the ITC notified the Department of its final determinations in its investigations, in which it found that an industry in the United States is materially injured by reason of imports of OCTG from India, Korea, Turkey, and Vietnam, and threatened with material injury by reason of imports of OCTG from Taiwan.⁸ Because the ITC determined that imports of OCTG from India, Korea, Taiwan, Turkey, and Vietnam are materially injuring or threatening with material injury a U.S. industry, unliquidated entries of such merchandise from India, Korea, Taiwan, Turkey, and Vietnam, entered or withdrawn from warehouse, for consumption are subject to the assessment of antidumping duties.

⁸ See Letter from the ITC to the Department, dated September 2, 2014; see also Certain Oil Country Tubular Goods from India, Korea, Philippines, Taiwan, Thailand, Turkey, Ukraine, and Vietnam (Investigation Nos. 701-TA-499-500 and 731-TA-1215-1217 and 1219-1223 (Final), USITC Publication 4489, September 2014).

Therefore, in accordance with section 736(a)(1) of the Act, the Department will direct U.S. Customs and Border Protection (CBP) to assess, upon further instruction by the Department, antidumping duties equal to the amount by which the normal value of the merchandise exceeds the export price (or constructed export price) of the merchandise, for all relevant entries of OCTG from India, Korea, Taiwan, Turkey, and Vietnam. These antidumping duties will be assessed on unliquidated entries of OCTG from India, Turkey, and Vietnam entered, or withdrawn from warehouse, for consumption on or after February 25, 2014, the date of publication of the preliminary determinations,⁹ but will not include entries occurring after the expiration of the provisional measures period and before publication of the ITC's final injury determination as further described below. Antidumping duties will also be assessed on unliquidated entries of OCTG from Korea entered, or withdrawn from warehouse, for consumption on or after July 18, 2014, the date of publication of the final determination.¹⁰

⁹ See Certain Oil Country Tubular Goods From India: Preliminary Determination of Sales at Less Than Fair Value, Preliminary Affirmative Determination of Critical Circumstances, in Part, and Postponement of Final Determination, 79 FR 10493 (February 25, 2014); Certain Oil Country Tubular Goods From the Republic of Turkey: Preliminary Affirmative Determination of Sales at Less Than Fair Value, Negative Preliminary Determination of Critical Circumstances, and Postponement of Final Determination, 79 FR 10484 (February 25, 2014); and Certain Oil Country Tubular Goods From the Socialist Republic of Vietnam: Preliminary Determination of Sales at Less Than Fair Value, Affirmative Preliminary Determination of Critical Circumstances, in Part, and Postponement of Final Determination, 79 FR 10478 (February 25, 2014).

Note that entries for Borusan Mannesmann Boru Sanayi ve Ticaret and Borusan Istikbal Ticaret will not be subject to assessment of antidumping duties because the Department's final determination with respect to that firm was negative. See Turkey Final Determination at 41973.

¹⁰ The Department did not direct CBP to suspend liquidation of any entries of OCTG from Korea at the preliminary determination because the Department did not make an affirmative preliminary determination of sales at LTFV with respect to OCTG from Korea. See Certain Oil Country Tubular Goods From the Republic of Korea: Negative Preliminary Determination of Sales at Less Than Fair Value, Negative Preliminary Determination of Critical Circumstances and Postponement of Final Determination, 79 FR 10480 (February 25, 2014).

Pursuant to section 736(b)(2) of the Act, duties shall be assessed on subject merchandise entered, or withdrawn from warehouse, for consumption on or after the date of publication of the ITC's notice of final determination if that determination is based on the threat of material injury, other than threat of material injury described in section 736(b)(1) of the Act.¹¹ In addition, section 736(b)(2) of the Act requires CBP to release any bond or other security, and refund any cash deposit made of estimated antidumping duties posted since the Department's preliminary antidumping duty determination. Because the ITC's final determination with respect to Taiwan is based on the threat of material injury and is not accompanied by a finding that injury would have resulted but for the imposition of suspension of liquidation of entries since the Department's preliminary determination, section 736(b)(2) of the Act is applicable. However, following publication of its amended preliminary determination of sales at not LTFV for OCTG from Taiwan, the Department directed CBP to terminate suspension of liquidation and release any cash deposits posted.¹²

¹¹ Section 736(b)(1) of the Act states that “{i}f the ITC, in its final determination under section 735(b), finds material injury or threat of material injury which, but for the suspension of liquidation under section 733(d)(2) would have led to a finding of material injury, then entries of the subject merchandise, the liquidation of which has been suspended under section 733(d)(2), shall be subject to the imposition of antidumping duties under section 731.”

¹² See Certain Oil Country Tubular Goods From Taiwan: Amended Preliminary Negative Determination of Sales at Less Than Fair Value and Postponement of Final Determination, 79 FR 18667 (April 3, 2014).

Continuation of Suspension of Liquidation

In accordance with section 735(c)(1)(B) of the Act, we will instruct CBP to continue to suspend liquidation on all entries of OCTG from India, Korea, Turkey, and Vietnam, with the exception of those for firms for which the Department's final determination was negative. We will also instruct CBP to suspend liquidation on all unliquidated entries of OCTG from Taiwan entered, or withdrawn from warehouse, for consumption on or after the date of publication of the ITC's notice of final determination of threat of material injury in the Federal Register, with the exception of entries for that firm for which the Department's final determination was negative.¹³ These instructions suspending liquidation will remain in effect until further notice.

¹³ Entries for Chung Hung Steel Corp will not be subject to assessment of antidumping duties because the Department's final determination with respect to that firm was negative. See Taiwan Amended Final Determination, 79 FR at 46404.

We will also instruct CBP to require cash deposits at rates equal to the estimated weighted-average dumping margins indicated below. Accordingly, effective on the date of publication of the ITC's final affirmative injury determinations, CBP will require, at the same time as importers would normally deposit estimated duties on this subject merchandise, a cash deposit at rates equal to the estimated weighted-average dumping margins listed below.¹⁴ The relevant all-others rate (for India, Korea, Taiwan, and Turkey) or the rate for the Vietnam-wide entity (for Vietnam), as applicable, apply to all producers or exporters not specifically listed. For the purpose of determining cash deposit rates, the estimated weighted-average dumping margins for imports of subject merchandise from India and Turkey will be adjusted, as appropriate, for export subsidies found in the final determination of the companion countervailing duty investigations of this merchandise imported from India or Turkey.¹⁵

¹⁴ See section 736(a)(3) of the Act.

¹⁵ See India Final Determination, 79 FR at 41982-3 and Turkey Final Determination, 79 FR at 41972-3, respectively. See also Certain Oil Country Tubular Goods From India: Final Affirmative Countervailing Duty Determination and Partial Final Affirmative Determination of Critical Circumstances, 79 FR 41967 (July 18, 2014) (India CVD Final Determination) and Certain Oil Country Tubular Goods From the Republic of Turkey: Final Affirmative Countervailing Duty Determination and Final Affirmative Critical Circumstances Determination, 79 FR 41964 (July 18, 2014) (Turkey CVD Final Determination).

Provisional Measures

Section 733(d) of the Act states that instructions issued pursuant to an affirmative preliminary determination may not remain in effect for more than four months except where exporters representing a significant proportion of exports of the subject merchandise request the Department to extend that four-month period to no more than six months. At the request of exporters that account for a significant proportion of OCTG from India, Turkey, and Vietnam, we extended the four-month period to no more than six months in each case.¹⁶ As noted above, in the investigations covering OCTG from India, Turkey, and Vietnam, the Department published the preliminary determinations on February 25, 2014. Therefore, the six-month period beginning on the date of publication of the preliminary determinations ended on August 24, 2014 (i.e., the last day of that six-month period is August 23, 2014). Furthermore, section 737(b) of the Act states that definitive duties are to begin on the date of publication of the ITC's final injury determination.

¹⁶ We also extended the provisional measures period at the preliminary determination in the investigation of OCTG from Taiwan. However, as explained above, we later published an amended preliminary determination of sales at not LTFV for OCTG from Taiwan, and directed CBP to terminate suspension of liquidation. Therefore, the issue of provisional measures for OCTG from Taiwan is moot.

Therefore, in accordance with section 733(d) of the Act and our practice, we will instruct CBP to terminate the suspension of liquidation and to liquidate, without regard to antidumping duties, unliquidated entries of OCTG from India, Turkey, and Vietnam, entered, or withdrawn from warehouse, for consumption on or after August 24, 2014, the date the provisional measures expired, until and through the day preceding the date of publication of the ITC's final injury determinations in the Federal Register. Suspension of liquidation resumes on the date of publication of the ITC's final determination in the Federal Register.

Estimated Weighted-Average Dumping Margins

The estimated weighted-average dumping margins are as follows:

Exporter or producer | Estimated weighted- average dumping margin (percent)
India¹⁷
Jindal SAW Ltd. | 9.91
GVN Fuels Limited, Maharashtra Seamless Limited and Jindal Pipe Limited | 2.05
All Others | 5.79
Korea
Hyundai HYSCO | 15.75
NEXTEEL Co. Ltd | 9.89
All Others | 12.82
Taiwan
Chung Hung Steel Corp ¹⁸ | 0.00
Tension Steel Industries Co., Ltd | 2.34
All Others | 2.34
Turkey
Borusan Mannesmann Boru Sanayi ve Ticaret and Borusan Istikbal Ticaret ¹⁹ | 0.00
Cayirova Boru Sanayi ve Ticaret A.S. and Yucel Boru Ithalat-Ihracat ve Pazarlama A.S.²⁰ | 35.86
All Others ²¹ | 35.86

¹⁷ As explained in the India Final Determination, the estimated weighted-average dumping margin for each respondent and for “all others” will be adjusted for export subsidies. See India Final Determination, 79 FR at 41982. As a result of the adjustment for export subsidies, the cash deposit rate for each respondent and for “all others” will be zero. For information regarding these export subsidies, see India CVD Final Determination and accompanying Issues and Decision Memorandum at section VI.A, “Programs Determined To Be Countervailable;” see also Memorandum from Edward C. Yang through Gary Taverman to Ronald K. Lorentzen RE: Amended Final Determination—Countervailing Duty Investigation of Certain Oil Country Tubular Goods from India, “Ministerial Error Allegations,” dated August 12, 2014.

¹⁸ No suspension of liquidation will be required for entries of this firm because its estimated weighted-average dumping margin is zero. See Taiwan Amended Final Determination, 79 FR at 46404.

¹⁹ No suspension of liquidation will be required for entries of these firms because their estimated weighted-average dumping margin is zero. See Turkey Final Determination, 79 FR at 41973.

²⁰ As explained in the Turkey Final Determination, the estimated weighted-average dumping margin for these firms will be adjusted for export subsidies. See Turkey Final Determination, 79 FR at 41972-73. As a result of the adjustment for export subsidies, the cash deposit rate for these firms will be 35.68 percent. See Turkey CVD Final Determination and accompanying Issues and Decision Memorandum at section VII.A, “Programs Determined To Be Countervailable” for information regarding these export subsidies.

²¹ As explained in the Turkey Final Determination, the estimated weighted-average dumping margin for “all others” will be adjusted for export subsidies. See Turkey Final Determination, 79 FR at 41972-73. As a result of the adjustment for export subsidies, the cash deposit rate for all others will be 35.68 percent. See Turkey CVD Final Determination and accompanying Issues and Decision Memorandum at section VII.A, “Programs Determined To Be Countervailable” for information regarding these export subsidies.

Exporter | Producer | Estimated weighted- average dumping margin (percent)
Vietnam
SeAH Steel VINA Corporation | SeAH Steel VINA Corporation | 25.18
Vietnam-wide Entity |  | 111.47

Critical Circumstances

With regard to the ITC's negative critical circumstances determinations on imports of OCTG from Turkey and Vietnam, we will instruct CBP to lift suspension and to refund any cash deposit made to secure the payment of estimated antidumping duties with respect to entries of the merchandise entered, or withdrawn from warehouse, for consumption on or after November 27, 2013 (i.e., 90 days prior to the date of publication of the preliminary determinations), but before February 25, 2014, the publication date of the preliminary determinations.

Notifications to Interested Parties

This notice constitutes the AD orders with respect to OCTG from India, Korea, Taiwan, Turkey, and Vietnam pursuant to section 736(a) of the Act. Interested parties can find a list of AD orders currently in effect at http://enforcement.trade.gov/stats/iastats1.html.

These orders and amended final determination are published in accordance with sections 736(a) and 735(e) of the Act and 19 CFR 351.211 and 351.224(e).

Dated: September 4, 2014.
Paul Piquado,
Assistant Secretary for Enforcement and Compliance.

[FR Doc. 2014-21596 Filed 9-9-14; 8:45 am]

BILLING CODE 3510-DS-P